DEPARTMENT OF LABOR

Employment and Training Administration

[TA-W-65,728]

NCI Group, Incorporated D/B/A Robertson Ceco Corp, Lockeford, CA; Notice of Termination of Investigation

Pursuant to Section 221 of the Trade Act of 1974, as amended, an investigation was initiated on April 1, 2009 in response to a petition filed by the Shop Ironworkers, Local 790 on behalf of workers of NCI Group, Incorporated doing business as Robertson Ceco Corp, Lockeford, California.

The petitioner has requested that the petition be withdrawn. Therefore, the investigation under this petition has been terminated.

Signed at Washington, DC, this 10th day of April 2009.
Linda G. Poole,
Certifying Officer, Division of Trade Adjustment Assistance.

[FR Doc. E9-10891 Filed 5-8-09; 8:45 am]

BILLING CODE 4510-FN-P